DEPARTMENT OF HEALTH AND HUMAN SERVICES

National Institutes of Health

Prospective Grant of Exclusive License: Human Anesthetic Formulation Based Upon Cyclodextrin Carriers

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive license worldwide to practice the invention embodied in U.S. Patent No. 6,407,079, entitled “Pharmaceutical compositions containing drugs which are instable or sparingly soluble in water and methods for their preparation,” to Jurox Pty Ltd., having a place of business in Rutherford, Australia. The field of use may be limited to the development of injectable anesthetic formulations containing Alfaxalone-hydroxypropyl-beta cyclodextrin complex for use in humans. The United States of America has an interest in the patent rights of this invention.

DATES: Only written comments and/or application for a license, which are received by the NIH Office of Technology Transfer on or before July 19, 2005 will be considered.

ADDRESSES: Requests for a copy of the patent, inquiries, comments and other materials relating to the contemplated license should be directed to: Pradeep Ghosh, J.D., Ph.D., M.B.A., Technology Licensing Specialist, Office of Technology Transfer, National Institutes of Health, 6011 Executive Boulevard, Suite 325, Rockville, MD 20852-3804; Telephone: (301) 435-5282; Facsimile: (301) 402-0220; e-mail: ghoshpr@mail.nih.gov.

SUPPLEMENTARY INFORMATION: This technology relates to pharmaceutical compositions containing drugs that are instable or only sparingly soluble in water, and methods for their preparation. The compositions are characterized by increased water solubility and improved stability.

The prospective exclusive license will be royalty-bearing and will comply with the terms and conditions of 35 U.S.C. 209 and 37 CFR 404.7. The prospective exclusive license may be granted unless, within 90 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: April 11, 2005.
Steven M. Ferguson,
Director, Division of Technology Development and Transfer, Office of Technology Transfer, National Institutes of Health.

[FR Doc. 05-7850 Filed 4-19-05; 8:45 am]

BILLING CODE 4140-01-P